NATIONAL AERONAUTICS AND SPACE ADMINISTRATION

[Notice 07-075]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: September 26, 2007.

FOR FURTHER INFORMATION CONTACT: Edward K. Fein, Patent Counsel, Johnson Space Center, Mail Code AL, Houston, TX 77058-8452; telephone (281) 483-4871; fax (281) 483-6936.

NASA Case No. MSC-24164-1: Engineering Human Broncho-Epithelial Tissue-Like Assemblies.

Dated: September 19, 2007.
Keith T. Sefton,
Deputy General Counsel, Administration and Management.

[FR Doc. E7-18921 Filed 9-25-07; 8:45 am]

BILLING CODE 7510-13-P